DEPARTMENT OF TRANSPORTATION

Federal Aviation Administration

14 CFR Part 71

[Docket No. FAA-2004-19458; Airspace Docket No. 04-AEA-11]

Establishment of Class E Airspace; Mifflintown, PA; Correction

AGENCY: Federal Aviation Administration (FAA), DOT.

ACTION: Final Rule; correction.

SUMMARY: This action corrects a final rule published in the Federal Register on March 14, 2005 (70 FR 12414). In that rule, the effective date was inadvertently published as September 29, 2005. The correct effective date is September 1, 2005. This action corrects that error.

DATES: Effective 0901 UTC, September 1, 2005.

FOR FURTHER INFORMATION CONTACT: Mr. Francis Jordan, Airspace Specialist, Airspace and Operations, ETSU-530, Eastern Terminal Service Unit, Eastern Region, Federal Aviation Administration, 1 Aviation Plaza, Jamaica, New York 11434-4809, telephone: (718) 553-4521.

SUPPLEMENTARY INFORMATION: On March 14, 2005, Docket No. FAA-2004-19438; Airspace Docket 04-AEA-11 (70 FR 12414), was published establishing Class E airspace at Mifflintown, PA. In that rule, the effective date was inadvertently published as September 29, 2005. The correct effective date is September 1, 2005. This action corrects that error.

Correction to Final Rule

Accordingly, pursuant to the authority delegated to me, the effective date for Docket No. FAA-2004-19438; Airspace docket No. 04-AEA-11, as published in the Federal Register on March, 14, 2005 (70 FR 12414) is corrected as follows:

On page 12414, correct the effective date to read September 1, 2005.

Issued in Jamaica, New York, on June 30, 2005.
Diane L. Crean,
Acting Area Staff Manager, Eastern Terminal Operations.

[FR Doc. 05-13366 Filed 7-6-05; 8:45 am]

BILLING CODE 4910-13-M